DEPARTMENT OF AGRICULTURE

Agricultural Marketing Service

[Docket No. DA-00-06]

Notice of Request for Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request an extension for and revision to a currently approved information collection for the Dairy Forward Pricing Pilot Program.

DATES: Comments on this notice must be submitted on or before November 7, 2000 to be assured of consideration.

Additional Information or Comments: Contact Nicholas Memoli, Marketing Specialist, Order Formulation Branch, Rm. 2971-S, P.O. Box 96456, Washington, DC 20090-6456, (202) 690-1932, e-mail address Nicholas.Memoli@usda.gov.

SUPPLEMENTARY INFORMATION: Title: Pricing Pilot Program.

OMB Number: 0581-0190.

Expiration Date of Approval: 09-30-00.

Type of Request: Extension and revision of an emergency approved information collection.

Abstract: In accordance with Public Law 106-113 (113 Stat. 1536, Section 1001(a)(8)), amending the Agricultural Marketing Agreement Act of 1937 (7 U.S.C. 601-674), the Dairy Forward Pricing Pilot Program became effective on July 19, 2000. The pilot program permits a handler to pay producers or cooperative associations a negotiated price, rather than the minimum Federal order price, for milk that is under forward contract, provided that such milk does not exceed the handler's nonfluid use of milk for the month. Under the pilot program, a one-page disclosure statement must be submitted each time a dairy farmer enters into a forward contract. The disclosure statement explains to the dairy farmer that the program is voluntary and that by entering into the program with a handler, the dairy farmer will forfeit his or her right to the minimum prices provided under the order.

The information collection requirements in this request are essential to carry out the intent of the Acts. The information collected is the minimum required. The information collected is used only by authorized employees of the USDA, AMS. The AMS is the primary user of the compiled information.

Estimate of Burden: Public reporting burden for this collection of information is estimated to average .25 hours per response.

Respondents: Dairy farmers.

Estimated Number of Respondents: 8,000.

Estimated Number of Responses per Respondent: 1.

Estimated Total Annual Burden on Respondents: 2,000 burden hours.

Comments are invited on: (1) whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Nicholas Memoli, Marketing Specialist, Order Formulation Branch, Rm. 2971-S, P.O. Box 96456, Washington, DC 20090-6456, (202) 690-1932, e-mail address Nicholas.Memoli@usda.gov. All comments received will be available for public inspection during regular business hours at the same address.

All responses to this notice will be summarized and included in the request for OMB approval. All comments will become a matter of public record.

Dated: September 1, 2000.
Richard M. McKee,
Deputy Administrator, Dairy Programs.

[FR Doc. 00-23025 Filed 9-7-00; 8:45 am]

BILLING CODE 3410-02-P